ENVIRONMENTAL PROTECTION AGENCY

40 CFR Part 52

[EPA-R07-OAR-2012-0053; FRL-9666-2]

Approval and Promulgation of Implementation Plans and Designations of Areas for Air Quality Planning Purposes; Missouri and Illinois; St. Louis; Determination of Attainment by Applicable Attainment Date for the 1997 Ozone National Ambient Air Quality Standard (NAAQS)

AGENCY: Environmental Protection Agency (EPA).

ACTION: Final rule.

SUMMARY: EPA is taking final action to determine, pursuant to the Clean Air Act (CAA), that the bi-state St. Louis (MO-IL) ozone nonattainment area (“St. Louis area”) attained the 1997 8-hour ozone National Ambient Air Quality Standards (NAAQS) by the applicable attainment date of June 15, 2010. This determination is based upon complete, quality-assured, and certified ambient air quality data from the 2007-2009 monitoring period which show that the St. Louis area has monitored attainment of the 1997 8-hour ozone NAAQS as of the applicable date.

DATES: Effective Date: This final rule will be effective May 30, 2012.

ADDRESSES: EPA has established a docket for this action under Docket ID No. EPA-R07-OAR-2012-0053. All documents in the docket are listed on the www.regulations.gov Web site. Although listed in the index, some information is not publicly available, i.e., CBI or other information whose disclosure is restricted by statute. Certain other material, such as copyrighted material, is not placed on the Internet and will be publicly available only in hard copy form. Publicly available docket materials are available either electronically through www.regulations.gov or in hard copy at the Environmental Protection Agency, Air Planning and Development Branch, 901 North 5th Street, Kansas City, Kansas 66101. EPA requests that if at all possible, you contact the person listed in the FOR FURTHER INFORMATION CONTACT section to schedule your inspection. The Regional Office's official hours of business are Monday through Friday, 8:00 to 4:30 excluding Federal holidays.

FOR FURTHER INFORMATION CONTACT: Lachala Kemp, Air Planning and Development Branch, U.S. Environmental Protection Agency Region 7, 901 N. 5th Street, Kansas City, Kansas 66101, at (913) 551-7214 or by email at kemp.lachala@epa.gov. In Region 5 contact Edward Doty, Attainment Planning and Maintenance Section, Air Programs Branch (AR-18J), 77 West Jackson Boulevard, Chicago, Illinois, 60604, at (312) 886-6057 or by e-mail at doty.edward@epa.gov.

SUPPLEMENTARY INFORMATION: Throughout this document, “we,” “us,” or “our” refer to EPA. This section provides additional information by addressing the following questions:

Table of Contents

I. What final action is EPA taking in this final rule?

II. What is the background for this final action?

III. What was the air quality in the St. Louis area for the 1997 8-hour ozone NAAQS for the 2007-2009 monitoring period?

IV. EPA's Final Action

V. Statutory and Executive Order Reviews

I. What final action is EPA taking in this final rule?

Pursuant to section 181(b)(2) of the CAA, EPA is taking final action to determine that the St. Louis area attained the 1997 8-hour ozone NAAQS by its applicable attainment date of June 15, 2010. The St. Louis area is composed of Jefferson County, Franklin County, St. Louis County, St. Louis City, and St. Charles County in Missouri, and Madison, Monroe, Jersey, and St. Clair Counties in Illinois. This determination is based upon complete, quality-assured and certified ambient air monitoring data from 2007-2009 which show that the St. Louis area monitored attainment of the 1997 8-hour ozone NAAQS as of its applicable attainment date.

On February 2, 2012, EPA published in the Federal Register a proposed rulemaking to determine that the St. Louis area attained the 1997 8-hour ozone NAAQS by its applicable attainment date of June 15, 2010 (see 77 FR 5210). EPA did not receive any public comments on this proposal.

II. What is the background for this action?

On July 18, 1997 (62 FR 38856), EPA promulgated an 8-hour ozone standard of 0.08 parts per million (ppm). On April 30, 2004 (69 FR 23858), EPA published a final rule designating and classifying areas under the 8-hour ozone NAAQS. These designations and classifications became effective June 15, 2004. EPA designated as nonattainment any area that was violating the 8-hour ozone NAAQS based on the three most recent years of air quality data, 2001-2003. Under EPA's implementation rule for the 1997 8-hour ozone standard (69 FR 23951, April 30, 2004), an area was classified under subpart 2 of the CAA based on its 8-hour ozone design value (i.e. the three-year average annual fourth-highest daily maximum 8-hour average ozone concentration), if it had a 1-hour design value at the time of designation at or above 0.121 ppm. See 40 CFR 51.902(a). All other nonattainment areas were covered under subpart 1, based upon their 8-hour design values (69 FR 23958). The St. Louis area was classified as a subpart 2, 8-hour ozone moderate nonattainment area by EPA on April 30, 2004 (69 FR 23858, 23898 and 23915), based on the three most recent years of monitoring data (2001-2003), consistent with 40 CFR 51.903(a).

As a moderate nonattainment area for the 1997 8-hour ozone NAAQS, the St. Louis (MO-IL) area had an applicable attainment date of June 15, 2010, as required by 40 CFR 51.903(a) Table 1. Pursuant to section 181(b)(2) of the CAA, EPA is required to make a determination as to whether the St. Louis area attained the standard as of its applicable attainment date. This final action is based on the area's design value as of the attainment date, which in turn is based on the three most recent years of air quality data (2007-2009) prior to the attainment date.

III. What was the air quality in the St. Louis area for the 1997 8-hour ozone NAAQS for the 2007-2009 monitoring period?

Today's rulemaking assesses whether the St. Louis area attained the 1997 8-hour ozone NAAQS by its applicable attainment date of June 15, 2010. Under EPA regulations at 40 CFR 50.15, the 1997 8-hour primary and secondary ozone ambient air quality standards are met at an ambient air quality monitoring site when the 3-year average of the annual fourth-highest daily maximum 8-hour average ozone concentration is less than or equal to 0.08 ppm, as determined in accordance with 40 CFR part 50, Appendix I. Based on the rounding convention set forth in section 2.3 of Appendix I, the smallest value that is greater than 0.08 ppm is 0.085 ppm.

EPA has reviewed the ambient air monitoring data for the St. Louis area for the 1997 8-hour ozone NAAQS, consistent with requirements contained at 40 CFR Part 50. EPA's review focused primarily on data recorded in the EPA Air Quality System (AQS) database for the St. Louis area for 2007-2009.

More detailed discussion of EPA's evaluation of the available monitoring data for the St. Louis area during the 2007-2009 monitoring period can be found in the proposal for this rulemaking (see 77 FR at 5211). Based on its evaluation of complete quality assured and certified data from the relevant monitoring sites for the 2007-2009 monitoring period, EPA has determined that the St. Louis area attained the 1997 8-hour ozone NAAQS by the June 15, 2010 attainment date. EPA did not receive any comments on the proposed determination during the public comment period on the proposal.

Table 1 shows the 2007-2009 and 2008-2010 ozone design values for the St. Louis area monitors with complete, quality-assured and certified data for that period. All data values are expressed in ppm. As shown in Table 1, all of these monitors recorded ozone design values less than 0.085 ppm for 2007-2009 and 2008-2010, with the highest value at any monitor in the area, 0.078 ppm, recorded at the West Alton monitor.

Table 1—Annual Fourth-Highest Daily Maximum 8-Hour Ozone Concentrations and 3-Year Averages in ppm for the St. Louis Area Monitors With Complete Data
[(2007-2009) and (2008-2010)]
State | County | Monitor | 2007 4th High (ppm) | 2008 4th High (ppm) | 2009 4th High (ppm) | 2010 4th High (ppm) | 2007-2009 Design Value (ppm) | 2008-2010 Design Value (ppm)*
Illinois | Jersey | Jerseyville 17-083-1001 | 0.075 | 0.069 | 0.068 | 0.072 | 0.070 | 0.069
| Madison | Alton 17-119-0008 | 0.081 | 0.068 | 0.067 | 0.080 | 0.072 | 0.071
|  | Maryville 17-119-1009 | 0.087 | 0.070 | 0.074 | 0.074 | 0.077 | 0.072
|  | Wood River 17-119-3007 | 0.086 | 0.067 | 0.066 | 0.070 | 0.073 | 0.067
| St. Clair | East St. Louis 17-163-0010 | 0.077 | 0.064 | 0.069 | 0.072 | 0.070 | 0.068
Missouri | St. Charles | West Alton 29-183-1002 | 0.089 | 0.076 | 0.071 | 0.084 | 0.078 | 0.077
|  | Orchard Farm 29-183-1004 | 0.083 | 0.072 | 0.073 | 0.077 | 0.076 | 0.074
| St. Louis | Maryland Heights 29-189-0014 | 0.094 | 0.069 | 0.070 | 0.076 | 0.077 | 0.071
|  | Pacific 29-189-0005 | 0.085 | 0.064 | 0.064 | 0.069 | 0.071 | 0.065
| St. Louis City | Blair Street 29-510-0085 | 0.087 | 0.073 | 0.065 | 0.071 | 0.075 | 0.069
* Although the determination here is whether the area attained the 1997 8-hour ozone NAAQS based on 2007-2009 data, the 2010 data shows that all monitors in the St. Louis area continued to attain the NAAQS in 2008-2010.

Based on its evaluation of complete quality assured and certified data from the relevant monitoring sites for the 2007-2009 monitoring period, EPA has determined that the St. Louis area attained the 1997 8-hour ozone NAAQS by the June 15, 2010 attainment date.

IV. EPA's Final Action

In today's rulemaking, pursuant to CAA section 181(b)(2), EPA is taking final action to determine that the St. Louis area has attained the 1997 8-hour ozone NAAQS by its applicable attainment date of June 15, 2010.

V. Statutory and Executive Order Reviews

This final action merely makes a determination of the St. Louis area's attainment of the 1997 8-hour ozone NAAQS based upon complete, quality-assured, and certified ambient air quality data, pursuant to statutory mandate, and does not impose additional requirements beyond those imposed by state law. This final action makes a non-discretionary determination of the St. Louis area's attainment of the 1997 8-hour ozone NAAQS based solely upon complete, quality-assured, and certified ambient air quality data, as mandated by CAA section 181(b)(2)(A). For that reason, this final action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this final action does not have tribal implications as specified by Executive Order 13175 (65 FR 67249, November 9, 2000), because the determination only affects the St. Louis area—which does not include Indian country—and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by June 29, 2012. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Ozone, Reporting and recordkeeping requirements.

Authority: 42 U.S.C. 7401 et seq.

Dated: April 4, 2012.
Mark J. Hague,
Acting Regional Administrator, Region 7.
Dated: April 18, 2012.
Susan Hedman,
Regional Administrator, Region 5.

40 CFR part 52 is amended as follows:

PART 52—[AMENDED]

1. The authority citation for part 52 continues to read as follows:

Authority: 42 U.S.C. 7401 et seq.

Subpart O—Illinois

2. In § 52.726, paragraph (kk) is added to read as follows:

§ 52.726 Control Strategy: Ozone.

* * * * *

(kk) Determination of attainment. EPA has determined, as of June 9, 2011, that the St. Louis (MO-IL) metropolitan 1997 8-hour ozone nonattainment area has attained the 1997 8-hour ozone NAAQS. This determination, in accordance with 40 CFR 51.918, suspends the requirements for this area to submit an attainment demonstration, associated reasonably available control measures, reasonable further progress, contingency measures, and other plan elements related to attainment of the standards for as long as the area continues to meet the 1997 Ozone NAAQS. In addition, based upon EPA's review of the air quality data for the 3-year period 2007 to 2009, the St. Louis (MO-IL) ozone nonattainment area has attained the 1997 8-hour ozone NAAQS by the applicable attainment date of June 15, 2010.

Subpart AA—Missouri

3. In § 52.1342, paragraph (a) is revised to read as follows:

§ 52.1342 Control strategy: Ozone.

(a) Determination of attainment. EPA has determined, as of June 9, 2011, that the St. Louis (MO-IL) metropolitan 1997 8-hour ozone nonattainment area has attained the 1997 8-hour ozone NAAQS. This determination, in accordance with 40 CFR 51.918, suspends the requirements for this area to submit an attainment demonstration, associated reasonably available control measures, reasonable further progress, contingency measures, and other plan elements related to attainment of the standards for as long as the area continues to meet the 1997 Ozone NAAQS. In addition, based upon EPA's review of the air quality data for the 3-year period 2007 to 2009, the St. Louis (MO-IL) ozone nonattainment area has attained the 1997 8-hour ozone NAAQS by the applicable attainment date of June 15, 2010.

* * * * *

[FR Doc. 2012-10207 Filed 4-27-12; 8:45 am]

BILLING CODE 6560-50-P